DEPARTMENT OF TRANSPORTATION

Federal Railroad Administration

[Docket Number FRA-2015-0127]

Petition for Waiver of Compliance

In accordance with part 211 of Title 49 Code of Federal Regulations (CFR), this document provides the public notice that by a document dated November 3, 2015, General Electric Transportation (GE) has petitioned the Federal Railroad Administration (FRA) for a waiver of compliance from certain provisions of the Federal railroad safety regulations contained at 49 CFR part 229, Railroad Locomotive Safety Standards. FRA assigned the petition Docket Number FRA-2015-0127.

GE has requested a waiver of compliance from the requirement of 49 CFR 229.129(b)(1), that each locomotive (or a sampling of similar locomotives) be tested for compliance with the sound level requirements given in 49 CFR 229.129(a)(1) prior to entering service, for 31 new ET44AC Locomotives to be delivered to CSX Transportation (CSX) and numbered CSX 3375 to CSX 3405. The locomotives will be manufactured in Erie, PA, and delivered to purchasers from January through March 2016, when weather conditions will likely preclude successful testing in accordance with 49 CFR 229.129(c)(6). GE requests that the deadline for completing the horn testing on these locomotives be extended until September 30, 2016. In support of this petition, GE has submitted data showing that horns on the previous 2015 model ET44AC locomotives were compliant with both high and low sound level requirements, with some margin above the minimum and below the maximum. GE also submitted illustrations demonstrating that the horn location has not been altered and that the only concern is changes in the component of the horn noise affected by reflectance off the roof and roof discontinuities on the 2016 model locomotives. Changes are generally less than 2 inches.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by January 25, 2016 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC.
Robert C. Lauby,
Associate Administrator for Railroad Safety, Chief Safety Officer.

[FR Doc. 2015-32452 Filed 12-23-15; 8:45 am]

BILLING CODE 4910-06-P